DEPARTMENT OF COMMERCE

National Oceanic and Atmospheric Administration

Fisheries of the South Atlantic and the Gulf of Mexico; South Atlantic Fishery Management Council (SAFMC) and Gulf of Mexico Fishery Management Council (GMFMC); Public Meeting

AGENCY: National Marine Fisheries Service (NMFS), National Oceanic and Atmospheric Administration (NOAA), Commerce.

ACTION: Notice of a public meeting of the SAFMC and GMFMC Joint Council Committee on South Florida Management Issues and the Ad Hoc Goliath Grouper Joint Council Steering Committee.

SUMMARY: The SAFMC and the GMFMC will hold a meeting of the Joint Council Committee on South Florida Management Issues and the Goliath Grouper Joint Council Steering Committee in Key Largo, FL.

DATES: The meeting will be held January 7-9, 2014.

ADDRESSES: Meeting address: The meeting will be held at the Hilton Key Largo Resort, 97000 Overseas Highway, Key Largo, FL 33037; telephone: (305) 852-5553. The meeting is open to members of the public and public comment will be accepted at the meeting.

Council address: South Atlantic Fishery Management Council, 4055 Faber Place Drive, Suite 201, N. Charleston, SC 29405; Gulf of Mexico Fishery Management Council, 2203 North Lois Avenue, Suite 1100, Tampa FL 33607.

FOR FURTHER INFORMATION CONTACT: Kim Iverson, Public Information Officer, SAFMC; telephone: (843) 571-4366 or toll free: (866) SAFMC-10; fax: (843) 769-4520; email: kim.iverson@safmc.net.

SUPPLEMENTARY INFORMATION: The meeting will begin at 8:30 a.m. on Tuesday, January 7, 2014 and end at 12 noon on Thursday, January 9, 2014.

The items of discussion for the Joint Council Committee on South Florida Management Issues agenda are as follows:

1. Approval of the agenda, minutes, and election of a chairman for each committee;

2. Discuss the purpose and goal;

3. Receive an overview presentation on South Florida Issues Workshops and discuss results;

4. Receive an overview of status and trends for South Florida species and discuss species specific management concerns and next steps for: yellowtail snapper; mutton snapper; hogfish; mangrove snapper; shallow-water groupers; Nassau grouper; warsaw and speckled hind; and other species as necessary;

5. Management structure concerns, challenges, and possible solutions for South Florida;

6. Next steps for addressing South Florida issues; and other business.

The items of discussion for the Ad Hoc Goliath Grouper Joint Council Committee agenda are as follows:

1. Review the last stock assessment for goliath grouper;

2. Presentation on Goliath Grouper Stakeholder Workshops and survey;

3. Review of recommendations from Ad Hoc Goliath Grouper Joint Science Workshop;

4. Review of ongoing goliath grouper research;

5. Next steps for assessment;

6. Possible management options for moving beyond the moratorium, next steps, and other business.

Other items of discussion may arise as the result of the public comment received.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

The meeting is physically accessible to people with disabilities. Requests for auxiliary aids should be directed to the Council office (see ADDRESSES) 3 days prior to the meeting.

Note: The times and sequence specified in this agenda are subject to change.

Authority: 16 U.S.C. 1801 et seq.

Dated: December 11, 2013.
Tracey L. Thompson,
Acting Deputy Director, Office of Sustainable Fisheries, National Marine Fisheries Service.

[FR Doc. 2013-29774 Filed 12-13-13; 8:45 am]

BILLING CODE 3510-22-P